DEPARTMENT OF COMMERCE

International Trade Administration

A-428-830

Stainless Steel Bar from Germany: Final Results of Antidumping Duty Administrative Review

AGENCY: Import Administration, International Trade Administration, Department of Commerce.

SUMMARY: On February 3, 2006, the Department of Commerce (“the Department”) published its preliminary results of the administrative review of the antidumping duty order on stainless steel bar from Germany. The period of review is March 1, 2004, through February 28, 2005. Based on our analysis of the comments received and an examination of our calculations, we have made certain changes for the final results. Consequently, the final results differ from the preliminary results. The final weighted-average dumping margin is listed below in the section entitled “Final Results of the Review.”

EFFECTIVE DATE: July 28, 2006.

FOR FURTHER INFORMATION CONTACT: Brandon Farlander or Natalie Kempkey, AD/CVD Operations, Office 1, Import Administration, International Trade Administration, U.S. Department of Commerce, 14th Street and Constitution Avenue, NW, Washington, DC 20230; telephone: (202) 482-0182 or (202) 482-1698, respectively.

SUPPLEMENTARY INFORMATION:

Background

Since the February 3, 2006, publication of the preliminary results in this review (see Stainless Steel Bar from Germany: Preliminary Results of Antidumping Duty Administrative Review, 71 FR 5811 (February 3, 2006) (“Preliminary Results”)), the following events have occurred:

We invited parties to comment on the Preliminary Results of the review. On March 6, 2006, the respondent BGH Edelstahl Freital GmbH, BGH Edelstahl Lippendorf GmbH, BGH Edelstahl Lugau GmbH, and BGH Edelstahl Siegen GmbH (collectively, “BGH”) filed a case brief and requested a hearing. On March 7, 2006, Carpenter Technology Corp., Crucible Specialty Metals Division of Crucible Materials Corp., and Electralloy Corp. (collectively, “Petitioners”) filed a case brief. At the Department's request, BGH removed certain information from its case brief and submitted a redacted case brief on April 6, 2006. BGH also filed its rebuttal brief on April 6, 2006. Petitioners filed their rebuttal brief on April 7, 2006. The Department met with BGH in lieu of a hearing to discuss BGH's concerns regarding this final determination. See “March 8, 2006 - Ex Parte Meeting with Counsel and Advisors for BGH Group, Inc.” from Natalie Kempkey, Analyst, dated May 8, 2005.

Scope of the Order

For the purposes of the order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Period of Review

The period of review is March 1, 2004, through February 28, 2005.

Analysis of Comments Received

All issues raised in the case briefs and rebuttal briefs filed by parties to this review are addressed in the “Issues and Decision Memorandum for 2004-2005 Administrative Review of Stainless Steel Bar from Germany” from Stephen J. Claeys, Deputy Assistant Secretary for Import Administration, to David M. Spooner, Assistant Secretary for Import Administration, dated July 17, 2006, (“Decision Memorandum”), which is hereby adopted by this notice. Attached to this notice as an appendix is a list of the issues that parties have raised and to which we have responded in the Decision Memorandum. Parties can find a complete discussion of all issues raised in this review and the corresponding recommendations in this public memorandum, which is on file in the Department's Central Records Unit (“CRU”), located in Room B-099 of the main Department building. In addition, a complete version of the Decision Memorandum can be accessed directly on the Web at http://ia.ita.doc.gov/frn/index.html. The paper copy and electronic version of the Decision Memorandum are identical in content.

Fair Value Comparisons

To determine whether sales of stainless steel bar by BGH to the United States were made at less than normal value, we compared export price to normal value. Our calculations followed the methodologies described in the Preliminary Results, except as noted below and in the final results calculation memorandum cited below, which is on file in the CRU.

Export Price

• We have recalculated BGH's imputed U.S. credit expenses using a more appropriate U.S. dollar short-term interest rate.

• We have included in our analysis transactions that entered the United States during the period of review, but were sold prior to the period of review.

Normal Value

• We have reclassified home market commissions reported by BGH to a certain commission agent as indirect selling expenses, and, consequently have recalculated BGH's indirect selling expense ratio.

• We have included in our analysis additional home market sales to ensure an appropriate window period for the added U.S. sales.

• We have discontinued the preliminary adjustment to BGH's cost of manufacturing under the Transactions Disregarded Rule (19 U.S.C. 1677b(f)(2)) with respect to affiliated scrap and alloy purchases

• We recalculated certain allocable common G&A expenses by removing both the lease G&A expenses and the lease depreciation expenses from the company's total expenses.

These changes are discussed in the Decision Memorandum and in the Final Results calculation memoranda. See “Final Results Calculation Memorandum for the BGH Group of Companies,” dated July 17, 2006; see also Memorandum from Joseph Welton, Accountant, to Neal Halper, Director, “Cost of Production and Constructed Value Calculation Adjustments for the Final Results- BGH Group,” dated July 17, 2006, which are on file in the CRU.

Final Results of the Review

We determine that the following percentage margin exists for the period March 1, 2004, through February 28, 2005:

Exporter/manufacturer | Weighted-average margin percentage
BGH | 0.62

Assessment Rates

The Department shall determine, and U.S. Customs and Border Protection (“CBP”) shall assess, antidumping duties on all appropriate entries. In accordance with 19 CFR 351.212(b)(1), we have calculated exporter/importer (or customer)-specific assessment rates for merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer).

The Department clarified its “automatic assessment” regulation on May 6, 2003, (68 FR 23954). This clarification will apply to entries of subject merchandise during the period of review produced by companies included in these final results of review for which the reviewed companies did not know their merchandise was destined for the United States. In such instances, we will instruct CBP to liquidate unreviewed entries at the all-others rate if there is no rate for the intermediate company involved in the transaction. For a full discussion of this clarification, see Antidumping and Countervailing Duty Proceedings: Assessment of Antidumping Duties, 68 FR 23954 (May 6, 2003).

The Department will issue appropriate assessment instructions directly to CBP within 15 days of publication of these final results of review.

Cash Deposit Rates

The following antidumping duty deposits will be required on all shipments of stainless steel bar from Germany entered, or withdrawn from warehouse, for consumption, effective on or after the publication date of the final results of this administrative review, as provided by section 751(a)(1) of the Act: (1) the cash deposit rate for the reviewed company will be the rate listed above (except no cash deposit will be required if a company's weighted-average margin is de minimis, i.e., less than 0.5 percent); (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 16.96 percent, the “all others” rate established in Notice of Final Determination of Sales at Less Than Fair Value: Stainless Steel Bar from Germany, 67 FR 3159 (January 23, 2002) and Notice of Amended Final Determination of Sales at Less Than Fair Value and Antidumping Duty Order: Stainless Steel Bar from Germany, 67 FR 10382 (March 7, 2002).

These cash deposit requirements shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to Administrative Protective Order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and this notice in accordance with sections 751(a)(1) and 777(i)(1) of the Act.

Dated: July 17, 2006.
Joseph A. Spetrini,
Acting Assistant Secretary for Import Administration.

APPENDIX I

List of Comments in the Issues and Decision Memorandum

Comment 1: The Department Should Assign Total Adverse Facts Available to BGH's Sales Information

Comment 2: The Department Should Assign Total Adverse Facts Available to BGH's Cost Information

Comment 3: BGH Mislead the Department Regarding Its Home Market Sales to BGH SL-Stahl GmbH

Comment 4: BGH Withheld Information Regarding Its Claimed Levels of Trade

Comment 5: BGH Incorrectly Claimed Home Market Commissions for Certain Sales

Comment 6: BGH Incorrectly Claimed Home Market Rebates on Certain Sales

Comment 7: The Department Should Reject BGH's Claim for Home Market Inland Freight Because BGH's Claim is for Non-Qualifying Expenses

Comment 8: BGH has Improperly Reported Its Home Market Warranty Expenses

Comment 9: BGH Improperly Classified Certain U.S. Sales as Export Price Sales, when Those Sales are Constructed Export Price Sales

Comment 10: BGH Has Understated its U.S. Credit Expenses

Comment 11: Affiliated Purchases of Scrap and Alloy Inputs

Comment 12: BOB's Common G&A Expenses

Comment 13: Company-Specific G&A Expense Ratios

Comment 14: The Department Erred in Rejecting Certain Portions of BGH's Case Brief

[FR Doc. E6-12057 Filed 7-27-06; 8:45 am]

BILLING CODE: 3510-DS-S